ENVIRONMENTAL PROTECTION AGENCY

[ER-FRL-6620-3]

Environmental Impact Statements; Notice of Availability

Responsible Agency: Office of Federal Activities, General Information (202) 564-7167 or www.epa.gov/oeca/ofa

Weekly receipt of Environmental Impact Statements

Filed July 16, 2001 Through July 20, 2001

Pursuant to 40 CFR 1506.9.

EIS No. 010253, Draft Supplement EIS, NPS, AZ, Organ Pipe Cactus National Monument General Management Plan and Development Concept Plan, Updated Information concerning Re-Analysis of Cumulative Effects on the Sonoran Pronghorn portion of the Sonoran Desert, Pima County, AZ, Comment Period Ends: September 14, 2001, Contact: Bill Wellman (520) 3877661 Ext. 7500.

EIS No. 010257, Draft Supplement, NOA, NC, FL, SC, GA, South Atlantic Region Shrimp Fishery Management Plan, Amendment 5, Additional Information concerning Rock Shrimp in the Exclusive Economic Zone (EEZ), NC, SC, FL and GA, Comment Period Ends: September 04, 2001, Contact: Dr. Joseph E. Powers (727) 570-5305. This EIS should have appeared in the FR on 07/20/2001. The 45-Day Comment Period is Calculated from 07/20/2001.

EIS No. 010262, Draft EIS, FHW, IL, U.S. 67(FAP-310) Expressway from Jacksonville to Macomb Transportation Improvements, NPDES and COE Section 10 and 404 Permits, Morgan, Cass, Schuyler and McDonough Counties, IL, Comment Period Ends: September 10, 2001, Contact: Norman Stoner (217) 492-4640.

EIS No. 010263, Draft EIS, AFS, CO, Bark Beetle Analysis, Proposal to Reduce Infestation of Trees by Tree-Killing Bark Beetles, Medicine Bow-Routt National Forests, Hahans Peak/Bears Ears Ranger District, Routt, Grand, Jackson and Moffat Counties, CO, Comment Period Ends: September 10, 2001, Contact: Andy Cadenhead (970) 870-2220.

EIS No. 010264, Draft EIS, TPT, CA, Presidio Trust Implementation Plan (PTIP), An Updated Plan for the Area B of the Presidio of San Francisco, Implementation, San Francisco Bay Area, Marin County, CA, Comment Period Ends: September 25, 2001, Contact: John Polka (415) 561-5300.

EIS No. 010265, Final EIS, BOP, AZ, Southern Arizona Federal Correctional Facility, Construction and Operation, Pima and Yuma Counties, AZ, Wait Period Ends: August 27, 2001, Contact: David J. Dorworth (202) 514-6470.

EIS No. 010266, Draft EIS, COE, SD, Title VI Land Transfer South Dakota, Transfer of 91,178 Acres of Land at Lake Oahe, Lake Sharp, Lake Francise Case, and Lewis & Clark Lake, from the US Army Corps of Engineers (USACE) to the South Dakota Department of Game, Fish and Parks (SDGFP), SD, Comment Period Ends: September 10, 2001, Contact: Patsy Freeman (402) 221-3803.

EIS No. 010267, FINAL EIS, GSA, DC, Department of Transportation Headquarters, Proposal to Lease 1.3 to 1.35 Million Rentable Square Feet of Consolidated and Upgraded Space, Five Possible Sites, Located in the Central Employment Area, Washington, D.C., Wait Period Ends: September 04, 2001, Contact: John Simeon (202) 260-5786.

EIS No. 010268, FINAL EIS, FHW, CA, CA-58 Transportation Corridor, Route Adoption and Purchases Right-of-Way Acquisition Project, between CA-99 in the Bakerfield Metropolitan Area and Interstate 5 in Kern County, Funding and COE Section 404 Permit, Kern County, CA, Wait Period Ends: August 27, 2001, Contact: C. Glenn Clinton (916) 498-5041.

EIS No. 010269, FINAL EIS, AFS, MT, NB, WY, ND, SD, Dakota Prairie Grasslands, Nebraska National Forest Units and Thunder Basin National Grassland, Land and Resource Management Plans 1999 Revisions, Implementation, MT, NB, WY, ND and SD, Wait Period Ends: January 22, 2002, Contact: Carla Loop (308) 432-0300. This document is available on the Internet at www.fs.fed.us/ngp.

EIS No. 010270, DRAFT EIS, FRC, AZ, CA, North Baja Pipeline Project, Docket Nos. CP01-22-000 and CP01-23-000, Construction and Operation A New Natural Gas Transmission Pipeline, Land Use Plan Amendment, Right-of-Way Grant, NPDES, COE Section 10 and 404 Permits, La Praz and Yuma Counties, AZ and Imperial, Kern, Riverside, Palo Verde, San Bernardino and San Diego Counties, CA, Comment Period Ends: October 25, 2001, Contact: Paula Felt (202) 208-1088. This document is available on the Internet at http://www.ferc.fed.us/efi/doorbell.htm.

EIS No. 010271, Draft Supplement, USA, CA, Oakland Army Base Disposal and Reuse Plan, Implementation, City of Oakland, Alameda County, CA, Comment Period Ends: September 10, 2001, Contact: Theresa Persick Arnold (703) 697-0216.

Amended Notices

EIS No. 010258, Final EIS, GSA, DC, Bureau of Alcohol, Tobacco and Firearms National Headquarters Building, Site Acquisition, Design and Construction, Washington, D.C. , Due: August 20, 2001, Contact: Dawud Abdur-Rahman (202) 260-3368. Revision of FR notice published on 07/20/2001: CEQ Comment Period Ending 08/27/2001 has been Corrected to 08/20/2001.

EIS No. 010024, Draft EIS, FAA, CA, Los Angeles International Airports, Proposed Master Plan Improvements on Runway, New Taxiways, New Terminal, New Air Cargo and Maintenance, Funding, Los Angeles, Los Angeles County, CA, Due: September 24, 2001, Contact: David B. Kessler (310) 725-3615. Revision of FR Notice Published on 02/02/2001: CEQ Review Period Ending 07/25/2001 has been Extended to 09/24/2001.

Dated: July 24, 2001.
Joseph C. Montgomery,
Director, NEPA Compliance Division, Office of Federal Activities.

[FR Doc. 01-18827 Filed 7-26-01; 8:45 am]

BILLING CODE 6560-50-P